DEPARTMENT OF EDUCATION

[Docket No.: ED-2023-SCC-0090]

Agency Information Collection Activities; Submission to the Office of Management and Budget for Review and Approval; Comment Request; Special Education-Individual Reporting on Regulatory Compliance Related to the Personnel Development Program's Service Obligation

AGENCY: Office of Special Education and Rehabilitative Services (OSERS), Department of Education (ED).

ACTION: Notice.

SUMMARY: In accordance with the Paperwork Reduction Act (PRA) of 1995, the Department is proposing a revision of a currently approved information collection request (ICR).

DATES: Interested persons are invited to submit comments on or before September 28, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Celia Rosenquist, 202-245-7373.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Special Education-Individual Reporting on Regulatory Compliance Related to the Personnel Development Program's Service Obligation.

OMB Control Number: 1820-0686.

Type of Review: A revision of a currently approved ICR.

Respondents/Affected Public: State, Local, and Tribal Governments; Individuals and Households.

Total Estimated Number of Annual Responses: 73,368.

Total Estimated Number of Annual Burden Hours: 10,874.

Abstract: The Office of Special Education Program's Personnel Development Program aims to increase the supply of qualified personnel in the field of special education. The program awards competitive grants to Institutions of Higher Education to support scholars who are preparing to provide special education and related services to children and youth with disabilities. Scholars who receive funding agree to work in the field of special education or related services for two years for each year of support they receive.

The Personnel Development Program Data Collection System collects data from grantees, scholars, and employers who verify that scholars are employed in the field of special education or related services. This data collection serves three program needs. First, data from grantees, scholars, and employers are necessary to assess the performance of the Personnel Development Program on its performance measures. Second, data from all three sources are necessary to determine if scholars comply with the service obligation requirements. Finally, project-specific performance data are collected from grantees for project monitoring and program improvement.

Dated: August 24, 2023.
Kun Mullan,
PRA Coordinator, Strategic Collections and Clearance, Governance and Strategy Division, Office of Chief Data Officer, Office of Planning, Evaluation and Policy Development.

[FR Doc. 2023-18572 Filed 8-28-23; 8:45 am]

BILLING CODE 4000-01-P